FEDERAL EMERGENCY MANAGEMENT AGENCY

Notice of Adjustment of Disaster Grant Amounts

AGENCY: Federal Emergency Management Agency (FEMA).

ACTION: Notice.

SUMMARY: FEMA gives notice that we are increasing the statewide per capita impact indicator under the Public Assistance program for disasters declared on or after October 1, 2000.

EFFECTIVE DATE: October 1, 2000.

FOR FURTHER INFORMATION CONTACT: Madge Dale, Response and Recovery Directorate, Federal Emergency Management Agency, Washington, DC 20472, (202) 646-3772.

SUPPLEMENTARY INFORMATION: 44 CFR 206.48 prescribes that we (FEMA) must adjust the statewide per capita impact indicator under the Public Assistance program to reflect changes in the Consumer Price Index for All Urban Consumers published by the Department of Labor.

We give notice that we are increasing the statewide per capita impact indicator to $1.04 for all disasters declared on or after October 1, 2000.

We base the adjustments on an increase in the Consumer Price Index for All Urban Consumers of 3.4 percent for the 12-month period ended in August 2000. The Bureau of Labor Statistics of the U.S. Department of Labor released the information on September 15, 2000.

(Catalog of Federal Domestic Assistance No. 83.516, Disaster Assistance)
Dated: October 6, 2000.
James L. Witt,
Director.

[FR Doc. 00-26536 Filed 10-13-00; 8:45 am]

BILLING CODE 6718-02-P